DEPARMENT OF COMMERCE

[Docket No. 140826721-4721-01]

Privacy Act of 1974, Amended System of Records

AGENCY: U.S. Department of Commerce, Office of the Secretary.

ACTION: Notice of Proposed Amendment to Privacy Act System of Records; “COMMERCE/DEPARTMENT-10, Executive Correspondence Files.”

SUMMARY: In accordance with the Privacy Act of 1974, as amended, Title 5 United States Code (U.S.C.) 552(e)(4) and (11); and Office of Management and Budget (OMB) Circular A-130, Appendix I, Federal Agency Responsibilities for Maintaining Records About Individuals, the Department of Commerce proposes to amend the system of records entitled “COMMERCE/DEPARTMENT-10, Executive Correspondence Files” to update: The categories of records in the system to include databases and electronic files; the system location(s); the routine uses to include the breach notification routine use; the safeguards and storage to include electronic records; the system manager(s) and addresses; the notification procedure; and the record source categories to include interaction with correspondent/Department contact. We invite public comment on the amended system announced in this publication.

DATES: To be considered, written comments must be submitted on or before November 13, 2014.

Unless comments are received, the amended system of records will become effective as proposed on the date of publication of a subsequent notice in the Federal Register.

ADDRESSES: You may submit written comments by any of the following methods: Email: BDolan1@doc.gov. Include “Privacy Act COMMERCE/DEPARTMENT-10, Executive Correspondence Files” in the subtext of the message. Fax: (202) 482-0827, marked to the attention of Ms. Brenda Dolan Mail: Ms. Brenda Dolan, Office of Privacy and Open Government, U.S. Department of Commerce, 1401 Constitution Ave. NW., Suite A300, Room A326, Washington, DC 20230.

FOR FURTHER INFORMATION CONTACT: Ms. Brenda Dolan, Office of Privacy and Open Government, U.S. Department of Commerce, 1401 Constitution Ave. NW., Suite A300, Room A326, Washington, DC 20230, (202) 482-3258.

SUPPLEMENTARY INFORMATION: This notice announces the Department of Commerce's proposal to amend the system of records under the Privacy Act of 1974 for Executive Correspondence Files. The purpose of this amendment is to update: The categories of records in the system to include databases and electronic files; the system location(s); the routine uses to include the breach notification routine use; the safeguards and storage to include electronic records; the system manager(s) and addresses; the notification procedure; and the record source categories to include interaction with correspondent/Department contact. Specifically, we propose to modify the system of records to read as follows:

Commerce/Dept-10

System Name:

COMMERCE/DEPT-10, Executive Correspondence Files.

Security Classification:

None

System Location:

a. For Office of the Secretary correspondence: Office of the Executive Secretariat, Office of the Secretary, U.S. Department of Commerce, Room 5516, 1401 Constitution Avenue NW., Washington, DC 20230.

b. For U.S. Census Bureau correspondence: Office of Congressional and Intergovernmental Affairs, U.S. Census Bureau, Room 8H166, 4600 Silver Hill Road, Washington, DC 20233-3700.

c. For Bureau of Economic Analysis/Economic and Statistics Administration correspondence: Office of the Under Secretary, Economic and Statistics Administration, Room 4836, 1401 Constitution Avenue NW., Washington, DC 20230.

d. For Economic Development Administration correspondence: Office of the Executive Secretariat, Economic Development Administration, Room 71014, 1401 Constitution Avenue NW., Washington, DC 20230.

e. For Bureau of Industry and Security correspondence: Office of the Under Secretary, Bureau of Industry and Security, Room 3898, 1401 Constitution Avenue NW., Washington, DC 20230.

f. For International Trade Administration correspondence: Office of the Executive Secretariat, International Trade Administration, Room 3842, 1401 Constitution Avenue NW., Washington, DC 20230.

g. For Minority Business Development Agency correspondence: Office of the Executive Secretariat, Minority Business Development Agency, Room 5612, 1401 Constitution Avenue NW., Washington, DC 20230.

h. For National Institute of Standards and Technology correspondence: Office of the Chief of Staff, National Institute of Standards and Technology, Room A1105, 100 Bureau Drive, Gaithersburg, MD 20899.

i. For National Technical Information Service correspondence: Office of the Director, National Technical Information Service, 5301 Shawnee Road, Alexandria, VA 22312.

j. For National Telecommunications and Information Administration: Office of the Assistant Secretary, National Telecommunications and Information Administration, Room 4898, 1401 Constitution Avenue NW., Washington, DC 20230.

k. For National Oceanic and Atmospheric Administration correspondence: Office of the Executive Secretariat, National Oceanic and Atmospheric Administration, Room 6052, 1401 Constitution Avenue NW., Washington, DC 20230.

l. For U.S. Patent and Trademark Office correspondence: Office of the Under Secretary, U.S. Patent and Trademark Office, 600 Dulany Street, Madison Building, West, 10th Floor, Alexandria, Virginia 22313.

Categories Of Individuals Covered By The System:

a. Department Contacts and/or individuals who correspond (in person, via telephone, mail, or electronically) with the Secretary of Commerce, and the Deputy Secretary, and individuals whose correspondence has been referred by the White House, other Executive agencies or Members of Congress to the Secretary or Deputy Secretary for response.

b. Individuals who correspond with top level officials in the Department's Bureaus. In these categories the individuals include only those who express views or seek information or assistance. Freedom of Information Act or Privacy Act requests are not indexed in this system (See Freedom of Information and Privacy Request Records—COMMERCE/DEPT-5).

Catagories Of Records In The System:

The system may include the name and addresses of correspondent, summary of subject matter, original correspondence, official response, referral letters, memoranda or notes concerning the subject of the correspondence, or copies of any enclosures. For hard copy correspondence, the records in the system are arranged numerically by control number assigned to each item of correspondence. A separate electronic database of all Department Contacts may also be maintained. This database may include the information listed above, as well as any other information relevant to the maintenance of the Department's contacts.

Authority For Maintenance Of The System:

5 U.S.C. 301 and 44 U.S.C. 3101.

Purposes:

The purpose of this system is to assure that each request receives an appropriate and timely reply and to prepare statistical reports for management on correspondence volume or topics of public interest, and to allow for management and optimal use of Department contacts information.

Routine Uses Of Records Maintained In The System, Including Categories Of Users And Purposes Of Such Uses:

1. Used by personnel in the Office of the Secretary, Executive Secretariat, and administrative offices of each operating unit of the Department to assure that each request receives an appropriate and timely reply and to prepare statistical reports for management on correspondence volume or topics of public interest, and to allow for management and optimal use of Department contacts information. Information from or copies of the records may be provided to the original addresses of the original correspondence.

2. In the event that a system or records maintained by the Department to carry out its functions indicates a violation or potential violation of law or contract, whether civil, criminal or regulatory in nature, and whether arising by general statute or particular program statute or contract, or rule, regulation, or order issued pursuant thereto, or where necessary to protect an interest of the Department, the relevant records in the system of records may be referred, as a routine use, to the appropriate agency, whether Federal, state, local or foreign, charged with the responsibility of investigating or prosecuting such violation or charged with enforcing or implementing the statute or contract, or rule, regulation or order issued pursuant thereto, or protecting the interest of the Department.

3. A record from this system of records may be disclosed to a Federal, state or local agency maintaining civil, criminal or other relevant enforcement information or other pertinent information, such as current licenses, if necessary to obtain information relevant to a Department decision concerning the assignment, hiring or retention of an individual, the issuance of a security clearance, the letting of a contract, or the issuance of a license, grant or other benefit.

4. A record from this system of records may be disclosed to a Federal, state, local, or international agency, in response to its request, in connection with the assignment, hiring or retention of an individual, the issuance of a security clearance, the reporting of an investigation of an individual, the letting of a contract, or the issuance of a license, grant, or other benefit by the requesting agency, to the extent that the information is relevant and necessary to the requesting agency's decision on the matter.

5. A record from this system of records may be disclosed in the course of presenting evidence to a court, magistrate or administrative tribunal, including disclosures to opposing counsel in the course of settlement negotiations.

6. A record in this system of records may be disclosed to a Member of Congress submitting a request involving an individual when the individual has requested assistance from the Member with respect to the subject matter of the record.

7. A record in this system of records which contains medical information may be disclosed to the medical advisor of any individual submitting a request for access to the record under the Act and 15 CFR Part 4 if, in the sole judgment of the Department, disclosure could have an adverse effect upon the individual, under the provision of 5 U.S.C. 552a(f)(3) and implementing regulations at 15 CFR 4.26.

8. A record in this system of records may be disclosed to the Office of Management and Budget in connection with the review of private relief legislation as set forth in OMB Circular No. A-19 at any stage of the legislative coordination and clearance process as set forth in that Circular.

9. A record in this system of records may be disclosed to the Department of Justice in connection with determining whether disclosure thereof is required by the Freedom of Information Act (5 U.S.C. 552).

10. A record in this system of records may be disclosed to a contractor of the Department having need for the information in the performance of the contract, but not operating a system of records within the meaning of 5 U.S.C. 552a(m).

11. A record in this system may be transferred to the Office of Personnel Management: for personnel research purposes; as a data source for management information; for the production of summary descriptive statistics and analytical studies in support of the function for which the records are collected and maintained; or for related manpower studies.

12. A record from this system of records may be disclosed to the Administrator, General Services, or his designee, during an inspection of records conducted by the General Services Administration as part of that agency's responsibility to recommend improvements in records management practices and programs, under authority of 44 U.S.C. 2904 and 2906. Such disclosure shall be made in accordance with the GSA regulations governing inspection of records for this purpose, and any other relevant (i.e. GSA or Commerce) directive. Such disclosure shall not be used to make determinations about individuals.

13. A record in this system of records may be disclosed to appropriate agencies, entities and persons when (1) it is suspected or determined that the security or confidentiality of information in the system of records has been compromised; (2) the DOC has determined that as a result of the suspected or confirmed compromise there is a risk of harm to economic or property interests, identity theft or fraud, or harm to the security or integrity of this system or whether systems or programs (whether maintained by the DOC or another agency or entity) that rely upon the compromised information; and (3) the disclosure made to such agencies, entities, and persons is reasonably necessary to assist in connection with the DOC's efforts to respond to the suspected or confirmed compromise and to prevent, minimize, or remedy such harm.

Disclosure To Consumer Reporting Agencies:

Not applicable.

Policies And Practices For Storing, Retrieving, Accessing, Retaining, And Disposing Of Records In The System:

Storage:

Hard copy files may be maintained in paper form and on diskettes; additional electronic files may be kept in electronic digital media in encrypted format within a controlled environment, and accessed only by authorized personnel.

Retrievability:

By agency responsibility, by control number, by correspondent's name, by subject, by addressee, by category of writer (e.g., Member of Congress, White House staff, Cabinet member, mayor, citizen) by category of correspondence, by Executive Secretariat analysts' identification code, by type of priority for response time, by date, or possibly by city and state of correspondent's address.

Safeguards:

Paper records and disks as stored in file cabinets on secured premises with access limited to personnel whose official duties require access. For electronic media, the system is password protected and is FIPPS 199 compliant. The electronic system adheres to a Moderate security rating.

Retention And Disposal:

Records are disposed of in accord with the appropriate records disposition schedule approved by the Archivist of the United States.

System Manger(s) And Address:

For records at location a.: Director, Office of the Executive Secretariat, Office of the Secretary, Room 5516, U.S. Department of Commerce, 1401 Constitution Avenue NW., Washington, DC 20230.

For records at location b.: Director, Office of the Executive Secretariat, U.S. Census Bureau, Room 8H166, 4600 Silver Hill Road, Washington, DC 20233-3700.

For records at location c.: Director, Office of the Under Secretary, Economic and Statistics Administration, Room 4836, 1401 Constitution Avenue NW., Washington, DC 20230.

For records at location d.: Director, Office of the Executive Secretariat, Economic Development Administration, Room 71014, 1401 Constitution Avenue NW., Washington, DC 20230.

For records at location e.: Director, Office of the Under Secretary, Bureau of Industry and Security, Room 3898, 1401 Constitution Avenue NW., Washington, DC 20230.

For records at location f.: Director, Office of the Executive Secretariat, International Trade Administration, Room 3842, 1401 Constitution Avenue NW., Washington, DC 20230.

For records at location g.: Director, Office of the Executive Secretariat, Minority Business Development Agency, Room 5612, 1401 Constitution Avenue NW., Washington, DC 20230.

For records at location h.: Director, Office of the Chief of Staff, National Institute of Standards and Technology, Room A1105, 100 Bureau Drive, Gaithersburg, MD 20899.

For records at location i.: Director, National Technical Information Service, 5301 Shawnee Road, Alexandria, VA 22312.

For records at location j.: Director, Office of the Assistant Secretary, National Telecommunications and Information Administration, Room 4898, 1401 Constitution Avenue NW., Washington, DC 20230.

For records at location k.: Director, Office of the Executive Secretariat, National Oceanic and Atmospheric Administration, Room 6052, 1401 Constitution Avenue NW., Washington, DC 20230.

For records at location l.: Director, Office of the Under Secretary, U.S. Patent and Trademark Office, 600 Dulany Street, Madison Building, West, 10th Floor, Alexandria, Virginia 22313.

Notification Procedure:

An individual requesting notification of existence of records on himself or herself should send a signed, written inquiry to the locations listed below. The request letter should be clearly marked, “PRIVACY ACT REQUEST.” The written inquiry must be signed and notarized or submitted with certification of identity under penalty of perjury. Requesters should reasonable specify the record contents being sought.

For records at location a.: Office of the Secretary, Freedom of Information and Privacy Act Officer, Room A300, U.S. Department of Commerce, 1401 Constitution Avenue NW., Washington, DC 20230.

For records at location b.: U.S. Census Bureau, Freedom of Information and Privacy Act Officer, Room 8H027, 4600 Silver Hill Road, Washington, DC 20233-3700.

For records at locations c.: Bureau of Economic Analysis/Economic and Statistics Administration, Freedom of Information and Privacy Act Officer, Room 4836, U.S. Department of Commerce, 1401 Constitution, Avenue NW., Washington, DC 20230.

For records at location d.: Economic Development Administration, Freedom of Information and Privacy Act Officer, Room 7325, U.S. Department of Commerce, 1401 Constitution Avenue NW., Washington, DC 20230.

For records at location e.: Bureau of Industry and Security, Freedom of Information and Privacy Act Officer, Room 6622, U.S. Department of Commerce, 1401 Constitution Avenue NW., Washington, DC 20230.

For records at location f.: International Trade Administration, Freedom of Information and Privacy Act Officer, Room 40003, U.S. Department of Commerce, 1401 Constitution Avenue NW., Washington, DC 20230.

For records at location g.: Minority Business Development Agency, Freedom of Information and Privacy Act Officer, Room 5093, U.S. Department of Commerce, 1401 Constitution Avenue NW., Washington, DC 20230.

For records at location h.: National Institute of Standards and Technology, Freedom of Information and Privacy Act Officer, Room 1710, 100 Bureau Drive, Gaithersburg, MD 20899.

For records at location i.: National Technical Information Service, Freedom of Information and Privacy Act Officer, Room 227, 5301 Shawnee Road, Alexandria, VA 22312.

For records at location j.: National Telecommunications and Information Administration, Freedom of Information and Privacy Act Officer, Room 4713, U.S. Department of Commerce, 1401 Constitution Avenue NW., Washington, DC 20230.

For records at location k.: National Oceanic and Atmospheric Administration, Freedom of Information and Privacy Act Officer, Room 9719, SSMC3, 1315 East-West Highway, Silver Spring, MD 20910.

For records at location l.: U.S. Patent and Trademark Office, Freedom of Information and Privacy Act Officer, 600 Dulany Street, Madison Building, East, Room 10B20, Alexandria, Virginia 22313.

Record Access Procedures:

An individual requesting access to records on himself or herself should send a signed, written inquiry to the same address as stated in the Notification Procedure section above. The request letter should be clearly marked, “PRIVACY ACT REQUEST.” The written inquiry must be signed and notarized or submitted with certification of identity under penalty of perjury. Requesters should reasonable specify the record contents being sought.

Contestng Record Procedures:

An individual requesting corrections or contesting information contained in his or her records must send a signed, written request inquiry to the same address as stated in the Notification Procedure section above. Requesters should reasonable identify the records, specify the information they are contesting and state the corrective action sought and the reasons for the correction with supporting justification showing how the record is incomplete, untimely, inaccurate, or irrelevant.

The Department's rules for access, for contesting contents, and for appealing initial determination by the individual concerned appear in 15 CFR part 4, Appendix B.

Record Source Catgegories:

The correspondent, referral source, Department employees involved in processing the correspondence, and other individuals, as required to prepare an appropriate response and to interact with correspondent/Department contact.

Exemptions Claimed For The System:

None.

Dated: October 7, 2014.
Brenda Dolan,
Department of Commerce, Freedom of Information and Privacy Act Officer.

[FR Doc. 2014-24323 Filed 10-10-14; 8:45 am]

BILLING CODE 3510-17-P